FEDERAL COMMUNICATIONS COMMISSION

Notice of Public Information Collection(s) Being Submitted for Review to the Office of Management and Budget

March 3, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 11, 2008. If you anticipate that you will be submitting PRA comments, but find it difficult to do so within the period of time allowed by this notice, you should advise the FCC contact listed below as soon as possible.

ADDRESSES: Submit your PRA comments to Nicholas A. Fraser, Office of Management and Budget, (202) 395-5887, or via fax at 202-395-5167 or via internet at: Nicholas_A._Fraser@omb.eop.gov and to Judith-B. Herman@fcc.gov, Federal Communications Commission, or an e-mail to PRA@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information, contact Judith B. Herman at 202-418-0214 or via the Internet at Judith-B.Herman@fcc.gov.

SUPPLEMENTARY INFORMATION: OMB Control Number: 3060-0850.

Title: Quick Form Application for Authorization in the Ship, Aircraft, Amateur, Restricted and Commercial Operator, and General Mobile Radio Services.

Form No.: FCC Form 605.

Type of Review: Revision of a currently approved collection.

Respondents: Individuals or households; and business or other for-profit; not-for-profit institutions, and state, local or tribal government.

Number of Respondents: 175,000 respondents; 175,000 responses.

Estimated Time per Response: .44 hours (average).

Frequency of Response: On occasion and every five or ten year reporting requirement, third party disclosure requirement and recordkeeping requirement.

Obligation To Respond: Required to obtain or retain benefits. Statutory authority for this information collection is contained in 47 U.S.C. sections 4(i), 303(r), and 332(a)(2) of the Communications Act of 1934, as amended.

Total Annual Burden: 77,000 hours.

Total Annual Cost: $2,538,000.

Privacy Act Impact Assessment: Yes.

Nature and Extent of Confidentiality: To protect the privacy of its applicants, the FCC will redact the telephone number(s) of applicants and the bid date for the Commercial Operator applicants. Information on the FCC Form 605 is maintained in the Commission's system of records, FCC/WTB-1, “Wireless Services Licensing Records.” These licensee records are publicly available and routinely used in accordance with subsection b of the Privacy Act, 5 U.S.C. 552a(b), as amended. Taxpayer Identification Numbers (TINs) and material that is afforded confidential treatment pursuant to a request made under 47 CFR 0.459 of the Commission's rules will not be available for public inspection.

Needs and Uses: The Commission will submit this information collection (IC) to the OMB as a revision during this comment period to obtain the full three-year clearance from them. There have been no changes in the estimated number of respondents, burden hours and annual costs. The Commission, on its own motion, is now revising FCC Form 605 Schedule D by removing within the past two years on the first eligibility of Item 2 per 47 CFR 97.21(b). The FCC Form 605 is a multi-part, consolidated, general application form that is part of the Universal Licensing System (ULS). FCC Form 605 includes a main form containing administrative information and a series of Schedules used to file technical information applicable to a specific radio service. The form is used to file for authorization to operate radio stations, amend pending applications, modify existing licenses, renew or renew/modify existing licenses, request cancellation of a license, withdraw a pending application, request a duplicate license, or request an administrative update of an existing license (i.e., name change without change to corporate structure or control), change mailing address, change name of vessel, etc. in the Ship (Part 80), Aircraft (Part 87), Amateur (including Amateur Vanity) (Part 97), Restricted and Commercial (Part 13), and General Mobile Radio Services (GMRS) (Part 95). This form is also used to apply for a Developmental License or a Special Temporary Authority (STA) in these services and to self-certify for temporary authorization to operate where applicable. Respondents are encouraged to submit FCC Form 605 electronically via ULS. The FCC uses the information collected on the FCC Form 605 to determine whether the applicant is legally, technically, and financially qualified to obtain a license. Without such information, the Commission cannot determine whether to issue the licenses to the applicants that provide telecommunication services to the public, and therefore, to fulfill its statutory responsibilities in accordance with the Communications Act of 1934, as amended. Information provided on this form will also be used to update the Commission's database and to provide for proper use of the frequency spectrum as well as enforcement purposes.

Federal Communications Commission.
Marlene H. Dortch,
Secretary.

[FR Doc. E8-4958 Filed 3-11-08; 8:45 am]

BILLING CODE 6712-01-P